DEPARTMENT OF COMMERCE

International Trade Administration

[A-357-820 and A-560-830]

Biodiesel From Argentina and Indonesia: Antidumping Duty Orders

AGENCY: Enforcement and Compliance, International Trade Administration, Department of Commerce.

SUMMARY: Based on affirmative final determinations by the Department of Commerce (Commerce) and the International Trade Commission (ITC), Commerce is issuing antidumping duty (AD) orders on biodiesel from Argentina and Indonesia.

DATES: Applicable April 26, 2018.

FOR FURTHER INFORMATION CONTACT: David Lindgren (Argentina) or Myrna Lobo (Indonesia); AD/CVD Operations, Office VII, Enforcement and Compliance, International Trade Administration, U.S. Department of Commerce, 1401 Constitution Avenue NW, Washington, DC 20230; telephone: (202) 482-3870, or (202) 482-2371, respectively.

SUPPLEMENTARY INFORMATION:

Background

In accordance with section 735(d) of the Tariff Act of 1930, as amended (the Act) and 19 CFR 351.210(c), on March 1, 2018, Commerce published its affirmative final determinations in the less-than-fair-value (LTFV) investigations of biodiesel from Argentina and Indonesia.¹ On April 16, 2018, the ITC notified Commerce of its affirmative final determination, pursuant to section 735(d) of the Act, that an industry in the United States is materially injured within the meaning of section 735(b)(1)(A)(i) of the Act, by reason of the LTFV imports of biodiesel from Argentina and Indonesia, and its determination that critical circumstances do not exist with respect to imports of biodiesel from Argentina subject to Commerce's affirmative critical circumstances determination.² On April 19, 2018, the ITC published its final determination in the Federal Register.³

¹ See Biodiesel from Argentina: Final Determination of Sales at Less Than Fair Value and Final Affirmative Determination of Critical Circumstances, In Part, 83 FR 8837 (March 1, 2018) (Argentina Final Determination); see also Biodiesel from Indonesia: Final Determination of Sales at Less Than Fair Value, 83 FR 8835 (March 1, 2018) (Indonesia Final Determination).

² See Letter from the ITC to the Honorable Gary Taverman, dated April 16, 2018 (Notification of ITC Final Determination); see also Biodiesel from Argentina and Indonesia, Investigation Nos. 731-TA-1347-1348 (Final) (April 2018).

³ See Biodiesel from Argentina and Indonesia; Determinations, 83 FR 17447 (April 19, 2018).

Scope of the Order

The product covered by these orders is biodiesel from Argentina and Indonesia. For a complete description of the scope of these orders, see the Appendix to this notice.

Antidumping Duty Orders

In accordance with sections 735(b)(1)(A)(i) and 735(d) of the Act, the ITC notified Commerce of its final determination that an industry in the United States is materially injured by reason of imports of biodiesel from Argentina and Indonesia.⁴ The ITC also notified Commerce of its determination that critical circumstances do not exist with respect to imports of biodiesel from Argentina subject to Commerce's critical circumstances finding.⁵ Therefore, in accordance with section 735(c)(2) of the Act, Commerce is issuing these AD orders.

⁴ See Notification of ITC Final Determination.

⁵ Id.

Because the ITC determined that imports of biodiesel from Argentina and Indonesia are materially injuring a U.S. industry, unliquidated entries of such merchandise from Argentina and Indonesia, entered or withdrawn from warehouse for consumption, are subject to the assessment of antidumping duties. Therefore, in accordance with section 736(a)(1) of the Act, Commerce will direct U.S. Customs and Border Protection (CBP) to assess, upon further instruction by Commerce, antidumping duties equal to the amount by which the normal value of the merchandise exceeds the export price (or constructed export price) of the merchandise, for all relevant entries of biodiesel from Argentina and Indonesia. Antidumping duties will be assessed on unliquidated entries of biodiesel from Argentina and Indonesia entered, or withdrawn from warehouse for consumption, on or after October 31, 2017, the date on which Commerce published its preliminary determinations in the Federal Register.⁶

⁶ See Biodiesel from Argentina: Preliminary Affirmative Determination of Sales at Less Than Fair Value, Preliminary Affirmative Determination of Critical Circumstances, In Part, 82 FR 50391 (October 31, 2017); Biodiesel from Indonesia: Preliminary Affirmative Determination of Sales at Less Than Fair Value, 82 FR 50379 (October 31, 2017).

Continuation of Suspension of Liquidation

In accordance with section 735(c)(1)(B) of the Act, Commerce will instruct CBP to continue to suspend liquidation of all relevant entries of biodiesel from Argentina and Indonesia. These instructions suspending liquidation will remain in effect until further notice.

Commerce will also instruct CBP to require cash deposits for estimated antidumping duties equal to the estimated cash deposit rates indicated below. Accordingly, effective the date of publication of the ITC's final affirmative injury determination, CBP will require, at the same time as importers would normally deposit estimated duties on the subject merchandise, a cash deposit equal to the cash deposit rates listed below.⁷ The all-others rates apply to producers or exporters not specifically listed, as appropriate.

⁷ See section 736(a)(3) of the Act.

Critical Circumstances

With regard to the ITC's negative critical circumstances determination regarding imports of biodiesel from Argentina, Commerce will instruct CBP to lift suspension and refund any cash deposits made to secure payment of estimated antidumping duties on subject merchandise entered, or withdrawn from warehouse, for consumption on or after August 2, 2017, (i.e., 90 days prior to the date of publication of the Argentina preliminary determination), but before October 31, 2017, (i.e., the date of publication of the Argentina preliminary determination).

Estimated Weighted-Average Dumping Margins

The estimated weighted-average AD margins and cash deposit rates are as follows:

⁸ Commerce determined that Vicentin S.A.I.C., and companies Renova S.A., Oleaginosa Moreno Hermanos S.A., Molinos Agro S.A., Patagonia Energia S.A., VFG Inversiones y Actividades Especiales S.A., Vicentin S.A.I.C. Sucursal Uy, Trading Company X, and Molinos Overseas Commodities S.A. are affiliated and should be treated as a single entity. See Argentina Final Determination, 83 FR at 8838 n.8.

⁹ There were no export subsidies that were countervailed in the concurrent countervailing duty investigation.

Exporters/producers from Argentina | Estimated margin (percent) | Estimated cash deposit rate (adjusted for subsidy offset(s)) (percent)
LDC Argentina S.A | 60.44 | 60.44
Vicentin S.A.I.C.⁸ | 86.41 | 86.23
All Others | 74.73 | 74.63
Exporters/producers from Indonesia | Estimated margin (percent) ⁹
Wilmar Trading PTE Ltd | 92.52
PT Musim Mas | 276.65
All Others | 92.52

Notification to Interested Parties

This notice constitutes the AD orders with respect to biodiesel from Argentina and Indonesia, pursuant to section 736(a) of the Act. Interested parties can find a list of AD orders currently in effect at http://enforcement.trade.gov/stats/iastats1.html.

These orders are issued and published in accordance with section 736(a) of the Act and 19 CFR 351.211(b).

Dated: April 20, 2018.
P. Lee Smith,
Deputy Assistant Secretary for Policy and Negotiations.

Appendix

Scope of the Orders

The product covered by these orders is biodiesel, which is a fuel comprised of mono-alkyl esters of long chain fatty acids derived from vegetable oils or animal fats, including biologically-based waste oils or greases, and other biologically-based oil or fat sources. These orders cover biodiesel in pure form (B100) as well as fuel mixtures containing at least 99 percent biodiesel by volume (B99). For fuel mixtures containing less than 99 percent biodiesel by volume, only the biodiesel component of the mixture is covered by the scope of these orders.

Biodiesel is generally produced to American Society for Testing and Materials International (ASTM) D6751 specifications, but it can also be made to other specifications. Biodiesel commonly has one of the following Chemical Abstracts Service (CAS) numbers, generally depending upon the feedstock used: 67784-80-9 (soybean oil methyl esters); 91051-34-2 (palm oil methyl esters); 91051-32-0 (palm kernel oil methyl esters); 73891-99-3 (rapeseed oil methyl esters); 61788-61-2 (tallow methyl esters); 68990-52-3 (vegetable oil methyl esters); 129828-16-6 (canola oil methyl esters); 67762-26-9 (unsaturated alkylcarboxylic acid methyl ester); or 68937-84-8 (fatty acids, C12-C18, methyl ester).

The B100 product subject to the orders is currently classifiable under subheading 3826.00.1000 of the Harmonized Tariff Schedule of the United States (HTSUS), while the B99 product is currently classifiable under HTSUS subheading 3826.00.3000. Although the HTSUS subheadings, ASTM specifications, and CAS numbers are provided for convenience and customs purposes, the written description of the scope is dispositive.

[FR Doc. 2018-08775 Filed 4-25-18; 8:45 am]

BILLING CODE 3510-DS-P